DEPARTMENT OF COMMERCE

National Oceanic and Atmospheric Administration

Environmental Impact Statement for the Monterey Bay Aquarium Institute Application To Install a Cabled Observatory Within the Monterey Bay National Marine Sanctuary and Notice of Scoping Meeting

AGENCY: National Marine Sanctuary Program (NMSP), National Ocean Service (NOS), National Oceanic and Atmospheric Administration (NOAA), Department of Commerce (DOC).

ACTION: Notice of Intent to prepare an EIS; notice of public scoping meeting; request for public comments.

SUMMARY: NOAA announces its intention to prepare an environmental impact statement (EIS) in accordance with the National Environmental Policy Act of 1969 (NEPA) for the proposed Monterey Bay Aquarium Research Institute (MBARI) installation of an advanced cabled observatory on the seafloor within the Monterey Bay National Marine Sanctuary (MBNMS). The proposed scientific research project, known as the Monterey Accelerated Research System (MARS), is comprised of one science node on 51 kilometers (km) of submarine cable. The Federal action at issue would be the NMSP's issuance of a MBNMS permit to authorize the conduct of this activity.

The EIS will be prepared in cooperation with the California State Lands Commission, which issued a Notice of Preparation on May 21, 2004, regarding its internet to prepare an Environmental Impact Report (EIR) pursuant to the California Environmental Quality Act (CEQA). The EIS prepared under this notice will be combined with the EIR and a joint EIR/EIS will be published.

DATES: Written comments on the scope of the EIS, suggested alternatives and potential impacts must be received on or before June 24, 2004. Two public scoping meetings to inform interested parties of the proposed action and to receive public comments on the scope of the EIS are scheduled as follows:

Wednesday, June 9, 2004—4 p.m.

Wednesday, June 9, 2004—6:30 p.m.

ADDRESSES: Submit written comments to Deirdre Hall, Monterey Bay National Marine Sanctuary, 299 Foam Street, Monterey, CA 93940. Comments may be submitted by fax at (831) 647-4250 or by e-mail at: deirdre.hall@noaa.gov. Comments received will be available for public inspection at the above address.

Copies of the application materials may be obtained by writing to the above address, or by contacting Deirdre Hall at (831) 647-4207. For directions to the public scoping meeting, contact the MBNMS office at (831) 647-4201.

The public meetings will be held at the Moss Landing Marine Laboratory, 8272 Moss Landing Road, Moss Landing, California.

FOR FURTHER INFORMATION CONTACT: William J. Douros, MBNMS Superintendent at (831) 647-4201 or by e-mail at William.Douros@noaa.gov.

SUPPLEMENTARY INFORMATION:

I. Proposed Action

The proposed action is MBARI's installation of approximately 51 kilometers of 28 mm wide submarine cable and a science node at the end of the cable, all within the boundaries of the MBNMS. The Federal action at issue would be the NMSP's issuance of a MBNMS permit to authorize the conduct of this activity. The cable route extends from Moss Landing (Monterey Bay, California) towards the northwest, to the north of the Monterey Canyon, and along the continental margin to the southeastern part of the Smooth Ridge. The applicant, Monterey Aquarium Research Institute (MBARI), proposes this scientific research project under the title of Monterey Accelerated Research System (MARS) cabled observatory.

Project Objectives

The purpose of the MARS project is to design and install an advanced-technology cabled observatory that will provide power and high-bandwidth communications to instruments sited at critical areas of science interest in State and federal waters of Monterey Bay. The site chosen in Monterey Bay's Smooth Ridge will enable important science experiments and science observations to be undertaken, as well as serve as the test bed for a state-of-the-art regional scale cabled observatory (NEPTUNE), currently one component of the National Science Foundation Ocean Observatories Initiative. NEPTUNE is a regional scale cabled observatory that the NSF plans to construct in 2006 off the coast of Washington. MARS will provide an advance opportunity to look at the operations, management, outreach activities, and costs involved with NEPTUNE on a smaller scale, and allow adjustments where necessary.

Specific Project Objectives are to:

• Test aspects of the regional cabled observatory (NEPTUNE) technology, both for the initial design of the system and during the lifetime of the project.

• Test methods for education and outreach in partnership with the Monterey Bay Aquarium, which enjoys a world-class reputation for its innovative programs in public education.

• Test deep-water remotely operated vehicle (ROV) procedures that will later be used for installing and servicing instruments on NEPTUNE.

• Serve as an instrument test bed to verify the performance of new instrumentation under development prior to being deployed on NEPTUNE.

• Provide power and high bandwidth real time communications to a broadband seismic observatory located on the west side of the San Gregorio fault line.

• Provide power and high bandwidth communications to instrumentation that will (a) allow long term in situ studies of chemosynthetic biological communities on Smooth Ridge, (b) be located in the active upper canyon enabling better understanding of canyon mass wasting events, (c) enable long term monitoring of spatial and temporal variability in parameters such as temperature and chlorophyll associated with phenomena such as El Niño that can significantly affect fishery stocks, and (d) enable studies of carbon transport from the region of primary production in the upper ocean to benthic communities.

Need for Project Location

MARS would be located in Monterey Bay offshore the MBARI facilities at Moss Landing, Monterey County, California. MBARI has indicated that Monterey Bay is needed because:

• Moss Landing is within easy year round access to deep water due to its location at the head of Monterey Canyon, and its mild climate. The MARS observatory must be located in deep water to test both the NEPTUNE technology and to develop the ROV procedures needed to operate deep-water cabled observatories.

• MBARI has two ships equipped with ROVs berthed at Moss Landing, one of which is nearly always deployed as a day boat. These ROVs are the only ones located on the west coast of the U.S. operated by an oceanographic institute.

• One of MBARI's joint projects with the Monterey Bay Aquarium, Education, and Research: Testing Hypothesis (EARTH) provides wide public and educational benefits.

• Smooth Ridge is located on the west side of the San Gregorio fault line, critical for seismic studies, and is close to several well established chemosynthetic biological communities. It is also provides a location that is within easy reach of the active upper section on Monterey Canyon.

Project Installation

The proposed science node, located approximately 891 meters below the ocean surface, will provide eight science ports for oceanographic instruments. Extension cable can be plugged into any science port to provide power and communications up to 3.5 km away from the original node. By supplying both data links and electrical power, the network will allow real-time, continuous, and long-term monitoring of conditions beneath the surface of the bay.

The applicant proposes to bury the cable along most of the route to a depth of one meter, where feasible, using a hydraulically operated plow that is towed by a cable installation vessel. The plow would cut a narrow trench for the cable and bury the cable. In areas where the cable cannot be buried with this method, the cable would be laid on the sea bottom and would be post lay buried by jetting, where feasible. Some portions of the cable would remain unburied due to potentially hard seafloor substrate and exposed rocks. In the nearshore area, the cable would be installed in an existing pipeline that extends from 153 meters offshore to the proposed landing site located in Moss Landing and owned by Duke Energy.

The applicant anticipates the cable would operate for a minimum of 25 years. The scope of the EIS will address the offshore area from shore to the end of the cable.

II. Summary of Environmental Issues

MBNMS has made a determination that the issuance of a permit for this activity would require the preparation of an EIS pursuant to NEPA, the Council on Environmental Quality (CEQ) implementing regulations (40 CFR Parts 1500 through 1508), and NOAA's implementing guidelines on NEPA codified in NOAA Administrative Order 216-6.

The installation, maintenance, and eventual decommissioning and removal of the cable pose potentially significant impacts upon Sanctuary resources and qualities. The EIR/EIS will address onshore and offshore environmental effects of cable construction, operation, maintenance, repair and removal.

A preliminary listing of issues to be discussed in the EIS is provided below. Additional issues may be identified at the public scoping meeting and in written comments.

• Air Quality—short-term air quality effects from construction equipment, vehicle, and vessel emissions.

• Biological Resources—effects on benthic communities, rocky hard-bottom communities, plankton, fish, marine birds, marine mammals, and marine turtles from construction disturbances (e.g., cable laying, boat anchoring, increased turbidity), release of contaminants, or entanglement; direct or indirect effects on sensitive species and habitats.

• Commercial and Recreational Fishing—effects on fisheries and fisheries operations, including construction interference with fishing activities, potential loss of catch, potential accidents (e.g., fishing net entanglement), and long-term preemption of fishing grounds.

• Cultural Resources—potential for impacts on cultural resources that may be buried along the proposed cable route.

• Environmental Justice—potential to cause disproportionate effects on minority and/or low-income populations within the project impact area. Such populations may include, but not be limited to, those in the local fishing industry.

• Geology and Soils—geologic hazards and physical effects on the cable (e.g., submarine landslides and erosion).

• Marine Water Quality—trenching effects on the water column (e.g., sediment plume, benthic disruption, and siltation) or contamination from accidental spills.

• Noise—increased noise levels from construction and maintenance operations.

• Marine Vessel Traffic—cable installation vessel interference with commercial and recreational vessel navigation.

• Strumming—lateral movement of the cable along the seafloor, which may impact the marine environment.

III. Alternatives

In addition to the applicant's proposed action, the EIS will, at a minimum, consider the following project alternatives:

• No Project/No-Action Alternative: The EIS will examine the impacts of not approving the proposed action.

• Alternative Offshore Locations: The EIS will consider alternative routing and landing locations in the vicinity of the project within Monterey Bay and in proximity to the MBARI facilities.

• Alternative Means of Obtaining Data: The EIS will examine the feasibility of utilizing buoys and other means to accomplish the project objectives.

IV. Comments

MBNMS would like public comments on the following:

1. Comments about the scope of issues that should be evaluated in the EIS concerning this proposal;

2. Comments regarding the expected impacts of this project on the environment of the NBNMS and the overall significance of those impacts;

3. Recommendations on mitigation measures and permit conditions that would eliminate or minimize the impacts of this project on the MBNMS or the environment generally should the permit be issued;

4. Recommendations for specific monitoring programs or plans that would allow the MBNMS Superintendent to know the effectiveness of mitigation measures and conditions; and

5. Comments on other alternatives or technologies that meet the research objectives.

V. Future Public Involvement

Additional opportunities for public review will be provided when the Draft EIR/EIS is completed. A notice of availability (NOA) of the Draft EIR/EIS will be published in the Federal Register.

VI. Special Accommodations

The scoping meeting is physically accessible to people with disabilities. Requests for sign language interpretation or other auxiliary aids should be directed to Deirdre Hall, at the MBNMS, (831) 647-4207, at least five (5) days prior to the meeting date.

Richard W. Spinrad,
Assistant Administrator, Ocean Services and Coastal Zone Management, National Oceanic and Atmospheric Administration.

[FR Doc. 04-11738 Filed 5-24-04; 8:45 am]

BILLING CODE 3510-NK-M